DEPARTMENT OF HOMELAND SECURITY

U.S. Customs And Border Protection

Agency Information Collection Activities: United States-Caribbean Basin Trade Partnership Act

AGENCY: U.S. Customs and Border Protection, Department of Homeland Security.

ACTION: 60-Day Notice and request for comments; Revision of an existing collection of information: 1651-0083.

SUMMARY: As part of its continuing effort to reduce paperwork and respondent burden, U.S. Customs and Border (CBP) invites the general public and other Federal agencies to comment on an information collection requirement concerning the United States-Caribbean Basin Trade Partnership Act. This request for comment is being made pursuant to the Paperwork Reduction Act of 1995 (Pub. L. 104-13; 44 U.S.C. 3506(c)(2)(A)).

DATES: Written comments should be received on or before May 28, 2010, to be assured of consideration.

ADDRESSES: Direct all written comments to U.S. Customs and Border Protection, Attn.: Tracey Denning, U.S. Customs and Border Protection, Office of Regulations and Rulings, 799 9th Street, NW., 7th Floor, Washington, DC 20229-1177.

FOR FURTHER INFORMATION CONTACT: Requests for additional information should be directed to U.S. Customs and Border Protection, Attn.: Tracey Denning, U.S. Customs and Border Protection, Office of Regulations and Rulings, 799 9th Street, NW., 7th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3506(c)(2)(A)). The comments should address the accuracy of the burden estimates and ways to minimize the burden including the use of automated collection techniques or the use of other forms of information technology, as well as other relevant aspects of the information collection. The comments that are submitted will be summarized and included in the CBP request for Office of Management and Budget (OMB) approval. All comments will become a matter of public record. In this document CBP is soliciting comments concerning the following information collection:

Title: United States-Caribbean Basin Trade Partnership Act.

OMB Number: 1651-0083.

Form Number: 450.

Abstract: This collection of information is required to implement the duty preference provisions of the United States-Caribbean Basin Trade Partnership Act (CBTPA). The provisions of CBTPA were adopted by the U.S. with the enactment of the Trade and Development Act of 2000 (Pub. L.106-200). The objective of the CBTPA is to expand trade benefits to countries in the Caribbean Basin. For preferential treatment under CBTPA, importers are required to have CBTPA Certification of Origin (Form 450) in their possession at the time of the claim, and to provide it to CBP upon request. CBP uses the information provided on Form 450 to determine if an importer is entitled to preferential duty treatment under the provisions of the CBTPA.

Current Actions: This submission is being made to revise the burden hours as a result of revised estimates of the number of Form 450s are prepared and/or submitted to CBP.

Type of Review: Extension with a change to the burden hours.

Affected Public: Businesses.

Estimated Number of Respondents: 84.

Estimated Number of Responses per Respondent: 57.2.

Estimated Number of Total Annual Responses: 4,804.

Estimated Time per Response: 15 minutes.

Estimated Total Annual Burden Hours: 1,201.

Dated: March 23, 2010.
Tracey Denning,
Agency Clearance Officer, U.S. Customs and Border Protection.

[FR Doc. 2010-6871 Filed 3-26-10; 8:45 am]

BILLING CODE 9111-14-P